DEPARTMENT OF HEALTH AND HUMAN SERVICES

Health Care Financing Administration

[HCFA-1136-N]

Medicare Program; June 5, 2000, Meeting of the Practicing Physicians Advisory Council

AGENCY: Health Care Financing Administration (HCFA), HHS.

ACTION: Notice of meeting.

SUMMARY: In accordance with section 10(a) of the Federal Advisory Committee Act, this notice announces a meeting of the Practicing Physicians Advisory Council. This meeting is open to the public.

DATES: The meeting is scheduled for June 5, 2000, from 9 a.m. until 5 p.m., E.D.T.

ADDRESSES: The meeting will be held in the Multipurpose Room/Auditorium, first Floor, Health Care Financing Administration Building, 7500 Security Boulevard, Baltimore, Maryland 21244.

FOR FURTHER INFORMATION CONTACT: Paul Rudolf, Executive Director, Practicing Physicians Advisory Council, Room 435-H, Hubert H. Humphrey Building, 200 Independence Avenue, SW., Washington, D.C. 20201, (202) 690-7874. News media representatives should contact the HCFA Press Office, (202) 690-6145. For additional information and updates on committee activities, please refer to the HCFA Advisory Committees Information Line 1-(877)-449-5659 toll free or (410)-786-9379 local or via the Internet at http://www.hcfa.gov/fac.

SUPPLEMENTARY INFORMATION: The Secretary of the Department of Health and Human Services (the Secretary) is mandated by section 1868 of the Social Security Act to appoint a Practicing Physicians Advisory Council (the Council) based on nominations submitted by medical organizations representing physicians. The Council meets quarterly to discuss certain proposed changes in regulations and carrier manual instructions related to physicians' services, as identified by the Secretary. To the extent feasible and consistent with statutory deadlines, the consultation must occur before publication of the proposed changes. The Council submits an annual report on its recommendations to the Secretary and the Administrator of the Health Care Financing Administration not later than December 31 of each year.

The Council consists of 15 physicians, each of whom has submitted at least 250 claims for physicians' services under Medicare or Medicaid in the previous year. Members of the Council include both participating and nonparticipating physicians and physicians practicing in rural and underserved urban areas. At least 11 members must be doctors of medicine or osteopathy authorized to practice medicine and surgery by the States in which they practice. Members are invited to serve for overlapping 4-year terms. In accordance with section 14 of the Federal Advisory Committee Act, terms of more than 2 years are contingent upon the renewal of the Council by appropriate action before the end of the 2-year term. The Council held its first meeting on May 11, 1992.

The current members are: Jerold M. Aronson; Richard Bronfman; Joseph Heyman; Sandral Hullett; Stephen A. Imbeau; Jerilynn S. Kaibel; Angelyn L. Moultrie; Derrick K. Latos; Dale Lervick; Sandra B. Reed; Amilu Rothhammer; Maisie Tam; Victor Vela; Kenneth M. Viste, Jr.; and Douglas L. Wood. The Council Chairperson is Derrick L. Latos.

At this meeting, council members will be updated on Physician Regulatory Issues Team (PRIT); Physician Service Plan (PSP); Advance Beneficiary Notices (ABN); and the Chief Financial Officer (CFO) audit and the error rate, including analysis, claims review, and educational effort. The agenda will provide for discussion and comment on the updates and following topics:

• Office of Financial Management Program Integrity Customer Service Plan (evaluation and improvement of program integrity customer service to providers).

• Private Fee for Service Medicare+Choice and how to educate physicians about this new option.

For additional information and clarification on the topics listed, call the contact person listed above.

Individual physicians or medical organizations that represent physicians that wish to make 5-minute oral presentations on agenda issues should contact the Executive Director by 12 noon, May 23, 2000, to be placed on the schedule. Testimony is limited to listed agenda issues, and the number of oral presentations may be limited by the time constraints. A written copy of the presenter's oral remarks should be submitted to the Executive Director no later than 12 noon, May 23, 2000, for distribution to the Council members for review before the meeting. Physicians and organizations not scheduled to speak may also submit written comments to the Executive Director and the Council members.

The meeting is open to the public, but attendance is limited to the space available. Individuals requiring sign language interpretation for the hearing impaired and/or other special accommodation, should contact John Lanigan at (202) 690-7418 at least 10 days before the meeting.

(Section 1868 of the Social Security Act (42 U.S.C. 1395ee) and sections 10(a) and 14(a)(1)(A) of Public Law 92-463 (5 U.S.C. App. 2, section 10(a)); 45 CFR Part 11)
(Catalog of Federal Domestic Assistance Program No. 93.773, Medicare—Hospital Insurance; and Program No. 93.774, Medicare—Supplementary Medical Insurance Program)
Dated: May 16, 2000.
Nancy-Ann Min DeParle,
Administrator, Health Care Financing Administration.

[FR Doc. 00-12660 Filed 5-18-00; 8:45 am]

BILLING CODE 4120-01-P